DEPARTMENT OF THE TREASURY

Submission for OMB Review; Comment Request

September 4, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW Washington, DC 20220.

DATES: Written comments should be received on or before October 14, 2003 to be assured of consideration.

Internal Revenue Service (IRS)

OMB Number: 1545-0098.

Form Number: IRS Form 1045.

Type of Review: Extension.

Title: Application for Tentative Refund.

Description: Form 1045 is used by individuals, estates, and trusts for a quick refund of taxes due to carryback of a net operating loss, unused general business credit, or claim of right adjustment under section 1341(b). The information obtained is used to determine the validity of the application.

Respondents: Individuals or households, Business or other for-profit, Farms.

Estimated Number of Respondents/Recordkeepers: 65,220.

Estimated Burden Hours Respondent/Recordkeepers:

Recordkeeping | 4 hr., 9 min.
Learning about the law or the form | 47 min.
Preparing the form | 6 hr., 44 min.
Copying, assembling, and sending the form to the IRS | 1 hr., 3 min.

Frequency of Response: On occasion.

Estimated Total Reporting/Recordkeeping Burden: 830,251 hours.

OMB Number: 1545-0219.

Form Number: IRS Form 5884.

Type of Review: Extension.

Title: Work Opportunity Credit.

Description: Internal Revenue Code (IRC) section 38(b)(2) allows a credit against income tax to employers hiring individuals from certain targeted groups such as welfare recipients, etc. The employer uses Form 5884 to figure the credit. IRS uses the information on the form to verify that the correct amount of credit was claimed.

Respondents: Individuals or households, Business or other for-profit.

Estimated Number of Respondents/Recordkeepers: 10,630.

Estimated Burden Hours Respondent/Recordkeeper:

Recordkeeping | 7 hr., 39 min.
Learning about the law or the form | 1 hr., 0 min.
Preparing and sending the form to the IRS | 1 hr., 9 min.

Frequency of Response: Annually.

Estimated Total Reporting/Recordkeeping Burden: 104,281 hours.

OMB Number: 1545-1016.

Form Number: IRS Form 8613.

Type of Review: Extension.

Title: Return of Excise Tax on Undistributed Income of Regulated Investment Companies.

Description: Form 8613 is used by regulated investment companies to compute and pay the excise tax on undistributed income imposed under sectIRS uses the information to verify that the correct amount of tax has been reported.

Respondents: Business or other for-profit.

Estimated Number of Respondents/Recordkeepers: 1,500.

Estimated Burden Hours Respondent/Recordkeeper:

Recordkeeping | 6 hr., 42 min.
Learning about the law or the form | 2 hr., 28 min.
Preparing and sending the form to the IRS | 2 hr., 42 min.

Frequency of Response: Annually.

Estimated Total Reporting/Recordkeeping Burden: 17,820 hours.

OMB Number: 1545-1359.

Regulation Project Number: INTL-978-86 NPRM.

Type of Review: Extension.

Title: Information Reporting by Passport and Permanent Resident Applicants.

Description: The regulations require applicants for passports and permanent residence status to report certain tax information on the applications. The regulations are intended to give the Service notice of non-filers and of persons with foreign source income not subject to normal withholding, and to notify such persons of their duty to file U.S. tax returns.

Respondents: Individuals or households.

Estimated Number of Respondents: 5,500,000.

Estimated Burden Hours Respondent: 30 minutes.

Frequency of Response: On occasion.

Estimated Total Reporting Burden: 750,000 hours.

OMB Number: 1545-1560.

Regulation Project Number: REG-246250-96 Final.

Type of Review: Extension.

Title: Public Disclosure of Material Relating to Tax-Exempt Organizations.

Description: The collections of information in section 301.6104(d)-3, 301.6104(d)-4 and 301.6104(d)-5 are necessary so that tax-exempt organizations can make copies of their applications for tax exemption and annual information returns to the public.

Respondents: Not-for-profit institutions.

Estimated Number of Respondents/Recordkeeping: 1,100,000.

Estimated Burden Hours Respondent/Recordkeeper: 30 minutes.

Frequency of Response: On occasion.

Estimated Total Reporting/Recordkeeping Burden: 551,500 hours.

OMB Number: 1545-1593.

Form Number: IRS Form 1041-QFT.

Type of Review: Extension.

Title: U.S. Income Tax Return for Qualified Funeral Trusts.

Description: Internal Revenue Code (IRC) section 685 allows the trustee of qualified funeral trust to report and pay the tax for the trust. Data is used to determine that the trustee filed the proper return and paid the correct tax.

Respondents: Business or other for-profit.

Estimated Number of Respondents/Recordkeepers: 15,000.

Estimated Burden Hours Respondent/Recordkeeper:

Recordkeeping | 9 hr., 34 min.
Learning about the law or the form | 2 hr., 18 min.
Preparing the form | 5 hr., 20 min.
Copying, assembling, and sending the form to the IRS | 48 min.

Frequency of Response: Annually.

Estimated Total Reporting/Recordkeeping Burden: 270,150 hours.

OMB Number: 1545-1693.

Form Number: IRS Forms 8871 and 8453-X.

Type of Review: Extension.

Title: Form 8871, Political Organization Notice of Section 527 Status; and Form 8453-X, Political Organization Declaration for Electronic Filing of Notice of Section 527 Status.

Description: Internal Revenue Code section 527, as amended by P.L. 106-230 and P.L. 107-276, requires certain political organizations to provide information to the IRS regarding their name and address, their purpose, and the names and addresses of their officers, highly compensated employees, board of directors, and any related entities (within the meaning of section 168(h)(4)). Forms 8871 and 8453-X are used for this purpose.

Respondents: Not-for-profit institutions.

Estimated Number of Respondents/Recordkeeping: 5,500.

Estimated Burden Hours Respondent/Recordkeeping:

| Form 8871 | Form 8453-X
Recordkeeping | 5 hr., 15 min. | 28 min.
Learning about the law or the form | 47 min. | 6 min.
Preparing and sending the form to the IRS | 55 min. | 6 min.

Frequency of Response: On occasion.

Estimated Total Reporting/Recordkeeping Burden: 35,195 hours.

OMB Number: 1545-1842.

Form Number: IRS Form 13441.

Type of Review: Extension.

Title: Health Coverage Tax Credit Registration Form.

Description: Form 13441, Health Coverage Tax Credit Registration Form, will be directly mailed to all individuals who are potentially eligible for the HCTC. Potentially eligible individuals will use this form to determine if they are eligible for the Health Coverage Tax Credit and to register for the HCTC program. Participation in this program is voluntary. This form will be submitted by the individual to the HCTC program office in a postage-paid, return envelope. We will accept faxed forms, if necessary. Additionally, recipients may call the HCTC call center for help in completing this form.

Respondents: Individuals or households, Federal Government, State, Local or Tribal Government.

Estimated Number of Respondents: 156,000.

Estimated Burden Hours Respondent: 30 minutes.

Frequency of Response: Other (once).

Estimated Total Reporting Burden: 78,000 hours.

OMB Number: 1545-1846.

Revenue Procedure Number: Revenue Procedure 2003-48.

Type of Review: Extension.

Title: Update of Checklist Questionnaire Regarding Requests for Spin-Off Rulings.

Description: This revenue procedure updates Revenue Procedure 96-30, which sets forth in a check list questionnaire the information that must be included in a request for ruling under section 355. This revenue procedure updates information that taxpayers must provide in order to receive letter rulings under section 355. This information is required to determine whether a taxpayer would qualify for nonrecognition treatment.

Respondents: Business or other for-profit.

Estimated Number of Respondents: 180.

Estimated Burden Hours Respondent: 200 hours.

Frequency of Response: On occasion.

Estimated Total Reporting Burden: 36,000 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 03-23151 Filed 9-10-03; 8:45 am]

BILLING CODE 4830-01-P